DEPARTMENT OF HOMELAND SECURITY

[CIS No. 2604-17; DHS Docket No. USCIS-2017-0003]

Termination of the Central American Minors Parole Program

AGENCY: Department of Homeland Security.

ACTION: Notice.

SUMMARY: The Department of Homeland Security (DHS) is publishing this notice to notify the public that it will no longer provide special consideration of parole for certain individuals denied refugee status in El Salvador, Guatemala, and Honduras under the Central American Minors (CAM) Parole Program.

DATES: Applicable August 16, 2017.

FOR FURTHER INFORMATION CONTACT: Maura Nicholson, Deputy Chief, International Operations Division, U.S. Citizenship and Immigration Services, Department of Homeland Security, 20 Massachusetts Avenue NW, Suite 3300, Washington, DC 20529, Telephone 202-272-1892. (This is not a toll-free number.)

SUPPLEMENTARY INFORMATION:

Background

On December 1, 2014, DHS and the U.S. Department of State (DOS) announced that the U.S. Government would allow certain minors in El Salvador, Guatemala, and Honduras to be considered for refugee status in the United States.¹ This program, known as the CAM Refugee Program, allows certain parents lawfully present in the United States to request a refugee resettlement interview for unmarried children under 21 years of age, and certain other eligible family members, in Guatemala, El Salvador, or Honduras. The parent in the United States must be lawfully present ² in order to request that his or her child be provided access to the program and considered for refugee resettlement. In general, under current immigration laws, only lawful permanent residents and U.S. citizens can file family-based immigrant visa petitions. Therefore, many of the qualifying parents under the program are unable to file an immigrant petition for their in-country relatives. INA 204(a); 8 U.S.C. 1154(a). As a result, most of the beneficiaries of the program do not have another process under our immigration laws to enter the United States. On November 15, 2016, the program was expanded to include other qualifying relatives.³

¹ See DOS fact sheet, “In-Country Refugee/Parole Program for Minors in El Salvador, Guatemala, and Honduras With Parents Lawfully Present in the United States” (Nov. 14, 2014), available at https://2009-2017.state.gov/j/prm/releases/factsheets/2014/234067.htm; see also U.S. Citizenship and Immigration Services Web page, “In-Country Refugee/Parole Processing for Minors in Honduras, El Salvador, and Guatemala (Central American Minors—CAM),” available at https://www.uscis.gov/CAM.

² “Lawful presence” refers to presence in the United States within a period of stay authorized by DHS and during which unlawful presence is not accrued for purposes of potential inadmissibility under INA sec. 212(a)(9)(B)-(C); 8 U.S.C. 1182(a)(9)(B)-(C). Note that an individual may be “lawfully present” in the United States without necessarily having “lawful status” (e.g., an individual granted deferred enforced departure, see 8 CFR 274a.12(a)(11)). See, e.g., Chaudry v. Holder, 705 F.3d 289, 292 (7th Cir. 2013) (“[Unlawful presence and unlawful status are distinct concepts . . . . It is entirely possible for aliens to be lawfully present (i.e., in a “period of stay authorized by the [Secretary]”) even though their lawful status has expired.”). Under the program, qualifying parents include individuals who are at least 18 years of age and lawfully present in the United States in the following categories: lawful permanent resident status, temporary protected status, parolee, deferred action, deferred enforced departure, or withholding of removal.

³ Beginning with the program's inception in December 2014, additional qualifying relatives have been able to gain access along with the qualifying child. Unmarried children of the qualifying child who are under 21 years of age can be included on the qualifying child's refugee application as a derivative beneficiary. The in-country parent of the qualifying child can also qualify for access to the CAM program if the in-country parent is part of the same household and economic unit as the qualifying child and is the legal spouse of the qualifying parent who is lawfully present in the United States. If the in-country parent who is legally married to the qualifying parent has unmarried children under 21 years of age who are not the children of the qualifying parent, these children can be added as derivatives of the in-country parent.

In July 2016, the CAM program expanded to include the following additional categories of relatives who are able to apply for admission to the United States as refugees when accompanied by a qualifying child: (1) The in-country biological parent of a qualifying child who is not legally married to the qualifying parent in the United States may apply, and the unmarried and under 21 years of age children and/or legal spouse of the in-country parent can also be included as derivatives of the in-country parent; (2) the caregiver of a qualifying child who is related to either the qualifying parent in the United States or the qualifying child may apply, and the unmarried and under 21 years of age children and/or legal spouse of the caregiver can also be included as derivatives of the caregiver; (3) the married and/or 21 years of age or older children of the qualifying parent (who is lawfully present in the United States) may apply, and (4) the unmarried and under 21 years of age children and legal spouse of the married and/or 21 years of age or older child can also be included as derivatives. See Department of State, Central American Minors (CAM) Program, https://www.state.gov/j/prm/ra/cam/index.htm. At the time of the program's original announcement and later expansion, these qualifying relatives of the qualifying child could also be considered for parole on a case-by-case basis, if found ineligible for refugee admission and the accompanying qualifying child received a positive decision of refugee status or parole. The various categories of individuals who may be afforded access to the CAM Refugee Program are subject to change in accordance with the priorities of the U.S. Refugee Program.

Qualifying children who were denied refugee status under the CAM Refugee Program were considered by U.S. Citizenship and Immigration Services (USCIS), a component of DHS, for parole into the United States on a case-by-case basis under the CAM Parole Program. A qualifying child's accompanying parent, sibling, or child who was also denied refugee status was also considered for parole into the United States on a case-by-case basis under the program. If USCIS found a child to be ineligible for refugee status, the decision notice informed the child of whether he or she had been instead conditionally approved for parole into the United States under the CAM Parole Program.

The Immigration and Nationality Act (INA) confers upon the Secretary of Homeland Security the discretionary authority to parole applicants for admission into the United States “temporarily under such conditions as [DHS] may prescribe only on a case-by-case basis for urgent humanitarian reasons or significant public benefit,” regardless of the individuals' admissibility. INA sec. 212(d)(5)(A); 8 U.S.C. 1182(d)(5)(A); see 8 CFR 212.5(a) and (c) through (e) (discretionary authority for establishing conditions of parole and for terminating parole). Accordingly, parole determinations are made on a case-by-case basis, taking into account each individual's unique circumstances.

In general, if USCIS favorably exercises its discretion to authorize parole, either USCIS or DOS issues travel documents to enable the applicant to travel to a U.S. port-of-entry and request parole from U.S. Customs and Border Protection (CBP) to join his or her family member. The ultimate determination whether to parole an individual into the United States is made by CBP officers upon the individual's arrival at a U.S. port of entry.

Unlike refugee status, parole does not lead to any immigration status. Parole also does not constitute an admission to the United States. INA secs. 101(a)(13)(B), 212(d)(5)(A); 8 U.S.C. 1101(a)(13)(B), 1182(d)(5)(A). Once an individual is paroled into the United States, the parole allows the individual to stay temporarily in the United States and to apply for employment authorization. See 8 CFR 274a.12(c)(11). The alien may stay in the United States unless and until the parole is terminated. See 8 CFR 212.5(e).

The CAM Parole Program was established based on the Secretary's discretionary parole authority and the broad authority to administer the immigration laws. See INA secs. 103(a), 212(d)(5); 8 U.S.C. 1103(a), 1182(d)(5). DHS is rescinding the discretionary CAM parole policy, which was instituted for “significant public benefit” reasons, of automatically considering parole for all individuals found ineligible for refugee status under the in-country refugee program in Guatemala, Honduras, or El Salvador. This discretionary change in policy does not preclude such individuals from applying for parole consideration independent of the CAM program by filing USCIS Form I-131, Application for Travel Document, consistent with the instructions for that form. Parole will only be issued on a case-by-case basis and only where the applicant demonstrates an urgent humanitarian or a significant public benefit reason for parole and that applicant merits a favorable exercise of discretion. Any alien may request parole to travel to the United States, but an alien does not have a right to parole.

As of August 16, 2017, USCIS will no longer consider or authorize parole under the CAM Parole Program. In addition, USCIS will notify individuals who have been conditionally approved for parole under this program and who have not yet traveled that the program has been terminated and their conditional approval for parole has been rescinded. As noted above, such individuals may apply for parole consideration independent of the CAM program by filing USCIS Form I-131, Application for Travel Document, consistent with the instructions for that form.

Although DHS is terminating the CAM Parole Program, individuals who have been paroled into the United States under the CAM Parole program will maintain parole until the expiration of that period of parole unless there are other grounds for termination of parole under DHS regulations at 8 CFR 212.5(e). CAM parolees already in the United States also may apply for re-parole on Form I-131 before their current parole period expires or apply for any immigration status for which they may be otherwise eligible. They are encouraged to submit any requests for re-parole at least 90 days before expiration of their period for parole. USCIS will consider each request for re-parole based on the merits of each application and may re-parole individuals who demonstrate urgent humanitarian reasons or a significant public benefit.

The termination of the CAM Parole Program does not affect the CAM Refugee Program and its operation.

General information about applying for parole by filing a Form I-131 may be found at http://www.uscis.gov/humanitarianparole.

Elaine C. Duke,
Acting Secretary of Homeland Security.

[FR Doc. 2017-16828 Filed 8-15-17; 11:15 am]

BILLING CODE 9111-97-P